DEPARTMENT OF THE INTERIOR

National Park Service

Notice of Intent To Prepare a General Management Plan and Environmental Impact Statement (GMP/EIS)

AGENCY: National Park Service, Interior.

ACTION: Notice of intent.

SUMMARY: In accordance with the National Environmental Policy Act of 1969 (Pub. L. 91-109 section 102(2)(C)), the National Park Service (NPS) is preparing a General Management Plan and Environmental Impact Statement (EIS) for Fire Island National Seashore, located in the towns of Islip and Brookhaven, Suffolk County, New York. Established by Act of Congress in 1964, much of Fire Island National Seashore is composed of a barrier island encompassing approximately 19,500 acres of both upland and tidal land. Seventeen villages and hamlets are located within Fire Island National Seashore—primarily on the western end of the island. The park also manages the William Floyd Estate, a 611 acre historic property located on the mainland in Mastic, NY.

The GMP/EIS will be prepared by planners in the NPS Northeast Region, with assistance from advisors and consultants and will propose a long-term approach to managing Fire Island National Seashore. Consistent with the park's mission, NPS policy, and other laws and regulations, alternatives will be developed to guide the management of the park over the next 15 to 20 years. A range of alternatives will be formulated for natural and cultural resource protection, visitor use and interpretation, facilities development, and operations. The EIS will assess the impacts of alternative management strategies that will be described in the general management plan for Fire Island National Seashore. The public will be invited to express comments about the management of the park early in the process through public meetings and other media; and will have an opportunity to review and comment on the draft GMP/EIS. Following public review processes outlined under NEPA, the final plan will become official, authorizing implementation of the preferred alternative. The target date for the Record of Decision is April 2010.

Dated: April 14, 2006.
Mary A. Bomar,
Regional Director.

[FR Doc. 06-5345 Filed 6-12-06; 8:45 am]

BILLING CODE 4310-21-M